RECOVERY ACCOUNTABILITY AND TRANSPARENCY BOARD

[Doc. No. 12-001]

Privacy Act of 1974; System of Records

AGENCY: Recovery Accountability and Transparency Board

ACTION: Notice of amendment to existing Privacy Act system of records.

SUMMARY: The Recovery Accountability and Transparency Board (Board) is issuing public notice of its intent to amend a system of records that it maintains subject to the Privacy Act of 1974 (5 U.S.C. 552a), as amended (Privacy Act or the Act); specifically, RATB-13, entitled “Fast Alert System.” RATB-13 is being amended to reflect legislation expanding the purview of the Board's responsibilities, see, e.g., Consolidated Appropriations Act of 2012, Public Law 112-74, (Dec. 23, 2011); Education Jobs Fund, Public Law 111-226, 124 Stat. 2389, § 101 (2010). Accordingly, the Board is making substantive amendments to its system notice to include: amended categories of individuals covered by the system, amended categories of records in the system, additional authorities for maintenance of the system, amended routine uses, and amended record source categories. In addition, the Board is renaming the system as RATB-13-FederalAccountability.gov System. The amended system of records reads as follows:

RATB—13

SYSTEM NAME:

FederalAccountability.gov System.

SECURITY CLASSIFICATION:

Controlled Unclassified Information.

SYSTEM LOCATION:

The principal location for the system is the Recovery Accountability and Transparency Board, located at 1717 Pennsylvania Avenue NW., Suite 700, Washington, DC 20006.

CATEGORIES OF INDIVIDUALS COVERED BY THE SYSTEM:

This system contains records on individuals acting in a personal capacity who relate to official Board efforts undertaken in support of its mission to coordinate and conduct oversight of Recovery Act funds to prevent fraud, waste, and abuse, and to develop and test technology resources and oversight mechanisms to detect and remediate fraud, waste, and abuse in Federal spending. These individuals include but are not limited to those that have applied for, sought, or received Federal funds. The system also contains records concerning individuals in their entrepreneurial capacity, corporations, and other business entities. These records are not subject to the Privacy Act.

CATEGORIES OF RECORDS IN THE SYSTEM:

Every possible type of information that contributes to effective oversight of fraud, waste, and abuse of Federal spending may be maintained in this system of records, including but not limited to records on Federal funding recipients and subrecipients (including vendors) and records on other individuals, corporations, sole proprietors, and other legal entities that have applied for, sought, or received Federal funds.

AUTHORITY FOR MAINTENANCE OF SYSTEM:

The Recovery Act established the Board to coordinate and conduct oversight of Recovery Act funds to prevent fraud, waste, and abuse. Public Law 111-5, §§ 1521, 1523(a)(1). The Education Jobs Fund required, among other things, that the funds it appropriated be administered under the same accountability provisions as Recovery Act funds. Public Law 111-226, § 101. The Consolidated Appropriations Act of 2012 provided appropriations for the Board “to develop and test information technology resources and oversight mechanisms to * * * detect and remediate waste, fraud, and abuse in Federal spending.” Public Law 112-74.

PURPOSE(S):

The purpose of collecting this information is to assist with the Board's efforts to detect and prevent fraud, waste, and abuse of Federal funds. By collecting data that is relevant to determinations of recipient and potential recipient responsibility and risk, the Board can create technology resources and oversight tools to be utilized by the Board and by other agencies.

ROUTINE USES OF RECORDS MAINTAINED IN THE SYSTEM, INCLUDING CATEGORIES OF USERS AND THE PURPOSES OF SUCH USES:

Records in the FederalAccountability.gov System may be used:

A. For auditing or other internal purpose of the Board, including but not limited to: review, analysis, and investigation of possible fraud, waste, abuse, and mismanagement of Federal funds.

B. To provide responses to queries from Federal agencies, including but not limited to regulatory and law enforcement agencies, regarding Federal fund recipients, subrecipients, or vendors, or those seeking Federal funds.

C. To furnish information to the appropriate Federal, state, local, or tribal agency responsible for investigating, prosecuting, enforcing, or implementing a statute, rule, regulation, or order, if the information is relevant to a violation or potential violation of civil or criminal law or regulation within the jurisdiction of the receiving entity.

D. To disclose information to a Federal, state, local, or tribal or other public authority of the fact that this system of records contains information relevant to the retention of an employee or retention of a security clearance. That entity, authority, or licensing organization may then make a request supported by the written consent of the individual for the entire record if it so chooses.

E. To disclose information to a congressional office from the record of an individual in response to an inquiry from the congressional office made at the request of the individual.

F. To disclose information to the Department of Justice (DOJ), or in a proceeding before a court, adjudicative body, or other administrative body before which the Board is authorized to appear, when:

1. The Board, or any component thereof; or

2. Any employee of the Board in his or her official capacity; or

3. Any employee of the Board in his or her individual capacity where the DOJ or the Board has agreed to represent the employee; or

4. The United States, if the Board determines that litigation is likely to affect the Board or any of its components, is a party to litigation or has an interest in such litigation, and the use of such records by the DOJ or the Board is deemed by the Board to be relevant and necessary to the litigation, provided, however, that in each case it has been determined that the disclosure is compatible with the purpose for which the records were collected.

G. To disclose information to the National Archives and Records Administration in records management inspections.

H. To disclose information to contractors, grantees, consultants, or volunteers performing or working on a contract, service, grant, cooperative agreement, job, or other activity for the Board and who have a need to have access to the information in the performance of their duties or activities for the Board.

POLICIES AND PRACTICES FOR STORING, RETRIEVING, ACCESSING, RETAINING, AND DISPOSING OF RECORDS IN THE SYSTEM:

STORAGE:

The FederalAccountability.gov System records will be stored in digital format on a digital storage device. All record storage procedures are in accordance with current applicable regulations.

RETRIEVABILITY:

Records are retrievable by database management systems software designed to retrieve data elements based upon role-based (e.g., law enforcement or non-law enforcement) user access privileges.

SAFEGUARDS:

The Board has minimized the risk of unauthorized access to the system by establishing a secure environment for exchanging electronic information. Physical access uses a defense in-depth approach restricting access at each layer closest to where the actual system resides. The entire complex is patrolled by security during non-business hours. Physical access to the data system housed within the facility is controlled by a computerized badge-reading system. Multiple levels of security are maintained via dual factor authentication for access using biometrics. The computer system offers a high degree of resistance to tampering and circumvention. This system limits data access to Board and contract staff on a need-to-know basis, and controls individuals' ability to access and alter records within the system. All users of the system of records are given a unique user identification (ID) with personal identifiers, and those user IDs are consistent with the above referenced role-based access privileges to maintain proper security of law enforcement and any other sensitive information. All interactions between the system and the authorized individual users are recorded.

RETENTION AND DISPOSAL:

Board personnel will review records on a periodic basis to determine whether they should be retained or modified. Further, the Board will retain and dispose of these records in accordance with Board Records Control Schedules approved by the National Archives and Records Administration.

SYSTEM MANAGER AND ADDRESS:

Michael Wood, Recovery Accountability and Transparency Board, 1717 Pennsylvania Avenue NW., Suite 700, Washington, DC 20006.

NOTIFICATION PROCEDURE:

Any individual who wants to know whether this system of records contains a record about him or her acting in a personal capacity, who wants access to such records, or who wants to contest the contents of such records should make a written request to the system manager.

RECORD ACCESS PROCEDURES:

A request for record access shall follow the directions described under Notification Procedure and will be addressed to the system manager at the address listed above. To the extent a portion of this system contains law enforcement records, such records are exempt from this requirement pursuant to 5 U.S.C. 552a(j)(2) and (k)(2). To the extent that such law enforcement records are not subject to exemption, they are subject to access. A determination as to exemption shall be made at the time a request for access is received. Access requests shall be directed to the System Manager listed above.

CONTESTING RECORDS PROCEDURES:

If you wish to contest a record in the system of records, contact the system manager and identify the record to be changed, identify the corrective action sought, and provide a written justification.

RECORD SOURCE CATEGORIES:

Information may be obtained from recipients and subrecipients (including vendors) of Recovery Act funds or other Federal funds for which the Board has been assigned responsibilities; Federal, state, and local agencies; public-source and/or commercially available materials.

DATES: Comments on this amendment must be received by the Board on or before March 19, 2012. The Privacy Act, at 5 U.S.C. 552a(e)(11), requires that the public be provided a 30-day period in which to comment on an agency's intended use of information in a system of records. Appendix I to Office of Management and Budget Circular A-130 requires an additional 10-day period, for a total of 40 days, in which to make such comments. The system of records will be effective, as proposed, at the end of the comment period unless the Board determines, upon review of the comments received, that changes should be made. In that event, the Board will publish a revised notice in the Federal Register.

ADDRESSES: Comments on the proposed new system of records should be clearly identified as such and may be submitted:

By Mail or Hand Delivery: Atticus Reaser, Assistant General Counsel, Recovery Accountability and Transparency Board, 1717 Pennsylvania Avenue NW., Suite 700, Washington, DC 20006;

By Fax: (202) 254-7970; or

By Email to the Board: comments@ratb.gov.

FOR FURTHER INFORMATION CONTACT: Atticus Reaser, Assistant General Counsel, Recovery Accountability and Transparency Board, 1717 Pennsylvania Avenue NW., Suite 700, Washington, DC 20006, (202) 254-7900.

Ivan J. Flores,
Paralegal Specialist, Recovery Accountability and Transparency Board.

[FR Doc. 2012-2505 Filed 2-3-12; 8:45 am]

BILLING CODE 6821-15-P